SMALL BUSINESS ADMINISTRATION

[Declaration of Disaster #3468]

State of Indiana

Blackford County and the contiguous counties of Delaware, Grant, Jay and Wells in the State of Indiana constitute a disaster area due to damages caused by severe thunderstorms, high straight-line winds and tornadoes that occurred on November 10, 2002. Applications for loans for physical damage may be filed until the close of business on January 21, 2003 and for economic injury until the close of business on August 20, 2003 at the address listed below or other locally announced locations:

Small Business Administration, Disaster Area 2 Office, One Baltimore Place, Suite 300, Atlanta, GA 30308.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The number assigned to this disaster for physical damage is 346811 and for economic injury is 9S6500.

(Catalog of Federal Domestic Assistance Program Nos. 59002 and 59008)
Dated: November 20, 2002.
Hector V. Barreto,
Administrator.

[FR Doc. 02-29995 Filed 11-25-02; 8:45 am]

BILLING CODE 8025-01-P